DEPARTMENT OF HOMELAND SECURITY

Federal Emergency Management Agency

[Docket ID FEMA-2016-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1640) | City of Tempe (15-09-2888P) | The Honorable Mark Mitchell, Mayor, City of Tempe, P.O. Box 5002, Tempe, AZ 85281 | Floodplain and Land Services, 31 East 5th Street, Tempe, AZ 85284 | Oct. 14, 2016 | 040054
Maricopa (FEMA Docket No.: B-1640) | Town of Wickenburg (16-09-0814P) | The Honorable John Cook, Mayor, Town of Wickenburg, 155 North Tegner Street Suite A, Wickenburg, AZ 85390 | Town Hall, 155 North Tegner Street, Wickenburg, AZ 85390 | Oct. 28, 2016 | 040056
Maricopa (FEMA Docket No.: B-1640) | Unincorporated Areas of Maricopa County (15-09-2075P) | The Honorable Clint L. Hickman, Chairman, Board of Supervisors, Maricopa County, 301 West Jefferson Street 10th Floor, Phoenix, AZ 85003 | Flood Control District of Maricopa County, 2801 West Durango Street, Phoenix, AZ 85009 | Oct. 14, 2016 | 040037
Maricopa (FEMA Docket No.: B-1640) | Unincorporated Areas of Maricopa County (16-09-0814P) | The Honorable Clint L. Hickman, Chairman, Board of Supervisors, Maricopa County, 301 West Jefferson Street 10th Floor, Phoenix, AZ 85003 | Flood Control District of Maricopa County, 2801 West Durango Street, Phoenix, AZ 85009 | Oct. 28, 2016 | 040037
Pima (FEMA Docket No.: B-1653) | City of Tucson (15-09-2903P) | The Honorable Jonathan Rothschild, Mayor, City of Tucson, City Hall, 255 West Alameda Street 10th Floor, Tucson, AZ 85701 | Planning and Development Services, 201 North Stone Avenue, 1st Floor, Tucson, AZ 85701 | Nov. 9, 2016 | 040076
Pima (FEMA Docket No.: B-1653) | City of Tucson, (16-09-0706P) | The Honorable Jonathan Rothschild, Mayor, City of Tucson, City Hall, 255 West Alameda Street 10th Floor, Tucson, AZ 85701 | Planning and Development Services, 201 North Stone Avenue, 1st Floor Tucson, AZ 85701 | Dec. 14, 2016 | 040076
Pima (FEMA Docket No.: B-1653) | Town of Marana (15-09-2320P) | The Honorable Ed Honea, Mayor, Town of Marana, 11555 West Civic Center Drive, Marana, AZ 85653 | Pima County Flood Control District, 201 North Stone Avenue, 9th Floor, Tucson, AZ 85701 | Nov. 9, 2016 | 040118
Pima (FEMA Docket No.: B-1640) | Unincorporated Areas of Pima County (16-09-1464P) | The Honorable Sharon Bronson, Chair, Board of Supervisors, Pima County, 130 West Congress Street 11th Floor, Tucson, AZ 85701 | Pima County Regional Flood Control District, 201 North Stone Avenue, 9th Floor, Tucson, AZ 85701 | Oct. 6, 2016 | 040073
California:
Los Angeles (FEMA Docket No.: B-1653) | City of Los Angeles (16-09-0471P) | The Honorable Eric Garcetti, Mayor, City of Los Angeles, 200 North Spring Street, Room 303, Los Angeles, CA 90012 | Department of Public Works, Bureau of Engineering, 1149 South Broadway, Suite 700, Los Angeles, CA 90015 | Nov. 2, 2016 | 060137
Los Angeles (FEMA Docket No.: B-1653) | Unincorporated Areas of Los Angeles County (16-09-0471P) | The Honorable Hilda L. Solis, Chair, Board of Supervisors, Los Angeles County, Kenneth Hahn Hall of Administration, 500 West Temple Street Room 856, Los Angeles, CA 90012 | County of Los Angeles, Department of Public Works, Annex Building, 900 South Fremont Avenue, 3rd Floor, Alhambra, CA 91803 | Nov. 2, 2016 | 065043
Napa (FEMA Docket No.: B-1653) | Town of Yountville (16-09-2592X) | The Honorable John F. Dunbar, Mayor, Town of Yountville, 6550 Yount Street, Yountville, CA 94599 | Town Hall, 6550 Yount Street, Yountville, CA 94599 | Dec. 27, 2016 | 060209
Orange (FEMA Docket No.: B-1653) | City of Irvine (16-09-1326P) | The Honorable Steven S. Choi, Ph.D., Mayor, City of Irvine, 1 Civic Center Plaza, Irvine, CA 92606 | City Hall, 1 Civic Center Plaza, Irvine, CA 92606 | Dec. 9, 2016 | 060222
Orange (FEMA Docket No.: B-1653) | Unincorporated Areas of Orange County (16-09-1326P) | The Honorable Lisa A. Bartlett, Chair, Board of Supervisors, Orange County, 333 West Santa Ana Boulevard, Santa Ana, CA 92701 | Orange County Flood Control Division, 300 North Flower Street, Santa Ana, CA 92703 | Dec. 9, 2016 | 060212
Riverside (FEMA Docket No.: B-1653) | City of Moreno Valley (16-09-0597P) | The Honorable Yxstian Gutierrez, Mayor, City of Moreno Valley, 14177 Frederick Street, Moreno Valley, CA 92552 | City Hall, 14177 Frederick Street, Moreno Valley, CA 92552 | Dec. 16, 2016 | 065074
Riverside (FEMA Docket No.: B-1640) | City of Murrieta (16-09-1601P) | The Honorable Randon Lane, Mayor, City of Murrieta, 1 Town Square, Murrieta, CA 92562 | Public Works and Engineering, 26442 Beckman Court, Murrieta, CA 92562 | Oct. 11, 2016 | 060751
Riverside (FEMA Docket No.: B-1640) | City of Temecula (16-09-1601P) | The Honorable Michael S. Naggar, Mayor, City of Temecula, 41000 Main Street, Temecula, CA 92590 | City Hall, 41000 Main Street, Temecula, CA 92590 | Oct. 11, 2016 | 060742
Sacramento (FEMA Docket No.: B-1653) | City of Elk Grove (15-09-1862P) | The Honorable Gary Davis, Mayor, City of Elk Grove, City Hall, 8401 Laguna Palms Way, Elk Grove, CA 95758 | Public Works Department, 8401 Laguna Palms Way, Elk Grove, CA 95758 | Nov. 10, 2016 | 060767
San Diego (FEMA Docket No.: B-1653) | City of San Diego (16-09-1837P) | The Honorable Kevin L. Faulconer, Mayor, City of San Diego, 202 C Street, 11th Floor, San Diego, CA 92101 | Development Services Department, 1222 1st Avenue, 3rd Floor MS 301, San Diego, CA 92101 | Dec. 1, 2016 | 060295
San Diego (FEMA Docket No.: B-1653) | Unincorporated Areas of San Diego County (16-09-0707P) | The Honorable Ron Roberts, Chairman, Board of Supervisors, San Diego County, 1600 Pacific Highway Room 335, San Diego, CA 92101 | Department of Public Works, Flood Control, 5510 Overland Avenue, Suite 410, San Diego, CA 92123 | Nov. 14, 2016 | 060284
Shasta (FEMA Docket No.: B-1653) | Unincorporated Areas of Shasta County (16-09-0884P) | The Honorable Pam Giacomini, Chair, Board of Supervisors, Shasta County, 1450 Court Street, Suite 308B, Redding, CA 96001 | Shasta County Public Works Department, 1855 Placer Street, Redding, CA 96001 | Oct. 31, 2016 | 060358
Colorado:
Eagle (FEMA Docket No.: B-1654) | Unincorporated Areas of Eagle County (16-08-0199P) | The Honorable Brent McFall, County Manager, Eagle County, 550 Broadway Street, Eagle, CO 81631 | Eagle County Building, Engineering Department, 500 Broadway Street, Eagle, CO 81631 | Nov. 25, 2016 | 080051
Pitkin (FEMA Docket No.: B-1654) | Town of Basalt (16-08-0199P) | The Honorable Jacque Whitsitt, Mayor, Town of Basalt, Basalt Town Hall, 101 Midland Avenue, Basalt, CO 81621 | Town Hall, 101 Midland Avenue, Basalt, CO 81621 | Nov. 25, 2016 | 080052
Pitkin (FEMA Docket No.: B-1654) | Unincorporated Areas of Pitkin County (16-08-0199P) | The Honorable Jon Peacock, County Manager, Pitkin County, 530 East Main Street, 3rd Floor, Aspen, CO 81611 | Pitkin County, GIS Department, City Hall, 130 South Galena Street, Aspen, CO 81611 | Nov. 25, 2016 | 080287
Teller (FEMA Docket No.: B-1646) | City of Woodland Park (16-08-0585P) | The Honorable Neil Levy, Mayor, City of Woodland Park, City Hall, 220 West South Avenue, Woodland Park, CO 80866 | City Hall, 220 West South Avenue, Woodland Park, CO 80866 | Nov. 3, 2016 | 080175
Idaho:
Bonneville (FEMA Docket No.: B-1646) | City of Ammon (16-10-0506P) | The Honorable Dana Kirkham, Mayor, City of Ammon, City Hall, 2135 South Ammon Road, Ammon, ID 83406 | City Hall, 2135 South Ammon Road, Ammon, ID 83406 | Nov. 18, 2016 | 160028
Bonneville (FEMA Docket No.: B-1646) | Unincorporated Areas of Bonneville County (16-10-0506P) | Mr. Roger Christensen, Chairman, Bonneville County Board of Commissioners, 605 North Capital Avenue, Idaho Falls, ID 83402 | Bonneville County Courthouse, 605 North Capital Avenue, Idaho Falls, ID 83402 | Nov. 18, 2016 | 160027
Kootenai (FEMA Docket No.: B-1654) | Unincorporated Areas of Kootenai County (16-10-0771P) | The Honorable Dan Green, Chairman, Board of County Commissioners, Main County Administration Building, 451 Government Way, Coeur d'Alene, ID 83814 | Assessors Department, Kootenai County Court House, 451 Government Way, Coeur d'Alene, ID 83814 | Dec. 9, 2016 | 160076
Illinois:
Cook (FEMA Docket No.: B-1654) | City of Des Plaines (16-05-0956P) | The Honorable Matthew J. Bogusz, Mayor, City of Des Plaines, 1420 Miner Street, Des Plaines, IL 60016 | Civic Center, 1420 Miner Street, 5th Floor, Des Plaines, IL 60016 | Nov. 25, 2016 | 170081
Cook (FEMA Docket No.: B-1654) | Village of Rosemont (16-05-0956P) | The Honorable Bradley A. Stephens, Village President, Village of Rosemont, 9501 West Devon Avenue, Rosemont, IL 60018 | Department of Public Works, 7048 North Barry Street, Rosemont, IL 60018 | Nov. 25, 2016 | 170156
Cook and DuPage (FEMA Docket No.: B-1654) | City of Chicago (16-05-0956P) | The Honorable Rahm Emanuel, Mayor, City of Chicago, City Hall, 121 North LaSalle Street, Room 406, Chicago, IL 60602 | Department of Buildings, Stormwater Management, 121 North LaSalle Street, Room 906, Chicago, IL 60602 | Nov. 25, 2016 | 170074
DuPage (FEMA Docket No.: B-1654) | Village of Bensenville (16-05-0956P) | The Honorable Frank Soto, Village President, Village of Bensenville, 12 South Center Street, Bensenville, IL 60106 | Village Hall, 12 South Center Street, Bensenville, IL 60106 | Nov. 25, 2016 | 170200
DuPage (FEMA Docket No.: B-1654) | Village of Elk Grove Village (16-05-0956P) | The Honorable Craig B. Johnson, Mayor, Village of Elk Grove Village, 901 Wellington Avenue, Elk Grove Village, IL 60007 | Engineering and Community Development Department, 901 Wellington Avenue, Elk Grove Village, IL 60007 | Nov. 25, 2016 | 170088
Lake (FEMA Docket No.: B-1654) | City of North Chicago (16-05-3391P) | The Honorable Leon Rockingham, Jr., Mayor, City of North Chicago, 1850 Lewis Avenue, North Chicago, IL 60064 | City Hall, 1850 Lewis Avenue, North Chicago, IL 60064 | Dec. 16, 2016 | 170384
Whiteside (FEMA Docket No.: B-1641) | City of Morrison (16-05-2654P) | The Honorable R. Everett Pannier, Mayor, City of Morrison, 200 West Main Street, Morrison, IL 61270 | City Hall, 200 West Main Street, Morrison, IL 61270 | Oct. 19, 2016 | 170691
Whiteside (FEMA Docket No.: B-1641) | Unincorporated Areas of Whiteside County (16-05-2654P) | The Honorable James C. Duffy, Chairman, Whiteside County Board, 200 East Knox Street, Morrison, IL 61270 | County Courthouse, 200 East Knox Street, Morrison, IL 61270 | Oct. 19, 2016 | 170687
Will (FEMA Docket No.: B-1646) | City of Lockport (15-05-2936P) | The Honorable Steven Streit, Mayor, City of Lockport, 222 East 9th Street, Lockport, IL 60441 | Public Works and Engineering, 17112 South Prime Boulevard, Lockport, IL 60441 | Oct. 31, 2016 | 170703
Will (FEMA Docket No.: B-1641) | City of Lockport (16-05-2927P) | The Honorable Steven Streit, Mayor, City of Lockport, 222 East 9th Street, Lockport, IL 60441 | Public Works and Engineering, 17112 South Prime Boulevard, Lockport, IL 60441 | Oct. 3, 2016 | 170703
Will (FEMA Docket No.: B-1646) | City of Naperville (15-05-5882P) | The Honorable Steve Chirico, Mayor, City of Naperville, 400 South Eagle Street, Naperville, IL 60540 | City Hall, 400 South Eagle Street, Naperville, IL 60540 | Nov. 7, 2016 | 170213
Will (FEMA Docket No.: B-1654) | City of Naperville (16-05-2014P) | The Honorable Steve Chirico, Mayor, City of Naperville, 400 South Eagle Street, Naperville, IL 60540 | City Hall, 400 South Eagle Street, Naperville, IL 60540 | Dec. 8, 2016 | 170213
Will (FEMA Docket No.: B-1654) | Village of Mokena (15-05-1059P) | The Honorable Frank A. Fleischer, Village President, Village of Mokena, 11004 Carpenter Street, Mokena, IL 60448 | Village Hall, 11004 Carpenter Street, Mokena, IL 60448 | Nov. 18, 2016 | 170705
Will (FEMA Docket No.: B-1654) | Unincorporated Areas of Will County (15-05-1059P) | The Honorable Lawrence M. Walsh, County Executive, Will County, Will County Office Building, 302 North Chicago Street, Joliet, IL 60432 | Land Use Department, 58 East Clinton Street, Suite 100, Joliet, IL 60432 | Nov. 18, 2016 | 170695
Will (FEMA Docket No.: B-1646) | Unincorporated Areas of Will County (15-05-2936P) | The Honorable Lawrence M. Walsh, County Executive, Will County, Will County Office Building, 302 North Chicago Street, Joliet, IL 60432 | Land Use Department, 58 East Clinton Street, Suite 100, Joliet, IL 60432 | Oct. 31, 2016 | 170695
Will (FEMA Docket No.: B-1646) | Unincorporated Areas of Will County (15-05-5882P) | The Honorable Lawrence M. Walsh, County Executive, Will County, 302 North Chicago Street, Joliet, IL 60432 | Land Use Department, 58 East Clinton Street Suite 100, Joliet, IL 60432 | Nov. 7, 2016 | 170695
Will (FEMA Docket No.: B-1654) | Unincorporated Areas of Will County (16-05-2014P) | The Honorable Lawrence M. Walsh, County Executive, Will County, Will County Office Building, 302 North Chicago Street, Joliet, IL 60432 | Land Use Department, 58 East Clinton Street, Suite 100, Joliet, IL 60432 | Dec. 8, 2016 | 170695
Indiana:
Delaware (FEMA Docket No.: B-1646) | City of Muncie (16-05-1816P) | The Honorable Dennis Tyler, Mayor, City of Muncie, City Hall, 300 North High Street, 3rd Floor, Muncie, IN 47342 | Delaware County Building, 100 West Main Street, Room 206, Muncie, IN 47305 | Nov. 10, 2016 | 180053
Delaware (FEMA Docket No.: B-1646) | City of Muncie (16-05-2551P) | The Honorable Dennis Tyler, Mayor, City of Muncie, City Hall, 300 North High Street, 3rd Floor, Muncie, IN 47305 | Delaware County Building, 100 West Main Street, Room 206, Muncie, IN 47305 | Oct. 14, 2016 | 180053
Delaware (FEMA Docket No.: B-1646) | Town of Yorktown (16-05-2551P) | The Honorable Rich Lee, President, Town of Yorktown, 9800 West Smith Street, Yorktown, IN 47396 | Town Hall, 9800 West Smith Street, Yorktown, IN 47396 | Oct. 14, 2016 | 180361
Kansas:
Johnson (FEMA Docket No.: B-1641) | City of Edgerton (16-07-1285X) | The Honorable Donald B. Roberts, Mayor, City of Edgerton, 404 East Nelson Street, P.O. Box 255, Edgerton, KS 66021 | City Hall, 404 East Nelson Street, Edgerton, KS 66021 | Oct. 10, 2016 | 200162
Johnson (FEMA Docket No.: B-1641) | City of Gardner (16-07-1285X) | The Honorable Chris C. Morrow, Mayor, City of Gardner, 420 North Cherry Street, Gardner, KS 66030 | City Hall, 120 East Main Street, Gardner, KS 66030 | Oct. 10, 2016 | 200164
Johnson (FEMA Docket No.: B-1654) | City of Mission Hills (16-07-0831P) | The Honorable Richard Boeshaar, Mayor, City of Mission Hills, 6300 State Line Road, Mission Hills, KS 66208 | City Hall, 6300 State Line Road, Mission Hills, KS 66208 | Dec. 21, 2016 | 200171
Johnson (FEMA Docket No.: B-1654) | City of Mission Woods (16-07-0831P) | The Honorable Robert Tietze, Mayor, City of Mission Woods, The Westwood City Hall, 4700 Rainbow Boulevard, Westwood, KS 66205 | City Hall, 4700 Rainbow Boulevard, Westwood, KS 66205 | Dec. 21, 2016 | 200172
Johnson (FEMA Docket No.: B-1641) | Unincorporated Areas of Johnson County (16-07-1285X) | The Honorable Ed Eilert, Chairman, Johnson County, 111 South Cherry Street, Suite 3300, Olathe, KS 66061 | County Courthouse Planning Office, 111 South Cherry Street, Suite 3500, Olathe, KS 66061 | Oct. 10, 2016 | 200159
Rice (FEMA Docket No.: B-1646) | City of Lyons (16-07-1283P) | The Honorable Michael Young, Mayor, City of Lyons, 201 West Main Street, P.O. Box 808, Lyons, KS 67554 | City Hall, 201 West Main Street, Lyons, KS 67554 | Nov. 4, 2016 | 200295
Kentucky: Fayette (FEMA Docket No.: B-1654) | Lexington-Fayette Urban County Government (16-04-4411P) | The Honorable Jim Gray, Mayor, City of Lexington, 200 East Main Street, Lexington, KY 40507 | Lexington-Fayette Urban County Government, 200 East Main Street 12th Floor Government Center, Lexington, KY 40507 | Dec. 14, 2016 | 210067
Minnesota:
Anoka (FEMA Docket No.: B-1654) | City of Lino Lakes (16-05-3555P) | The Honorable Jeff Reinert, Mayor, City of Lino Lakes, 600 Town Center Parkway, Lino Lakes, MN 55014 | City Hall, 600 Town Center Parkway, Lino Lakes, MN 55014 | Dec. 21, 2016 | 270015
Clay (FEMA Docket No.: B-1646) | City of Moorhead (16-05-3467P) | The Honorable Del Rae Williams, Mayor, City of Moorhead, Moorhead City Hall, 500 Center Avenue, Moorhead, MN 56561 | City Hall, 500 Center Avenue, Moorhead, MN 56561 | Nov. 11, 2016 | 275244
Nebraska: Lincoln (FEMA Docket No.: B-1646) | City of North Platte (16-07-0952P) | The Honorable Dwight Livingston, Mayor, City of North Platte, 211 West 3rd Street, North Platte, NE 69101 | City Hall, 211 West 3rd Street, North Platte, NE 69101 | Oct. 26, 2016 | 310143
Nevada: Douglas (FEMA Docket No.: B-1653) | Unincorporated Areas of Douglas County (16-09-1787X) | The Honorable Doug N. Johnson, Chairman, Board of Supervisors, Douglas County, P.O. Box 218, Minden, NV 89423 | Douglas County Public Works Department, 1615 8th Street, Minden, NV 89423 | Dec. 15, 2016 | 320008
New Jersey: Monmouth (FEMA Docket No.: B-1646) | Borough of Highlands (16-02-0850P) | The Honorable Frank Nolan, Mayor, Borough of Highlands, Administrative Offices, 42 Shore Drive, Highlands, NJ 07732 | Highlands Borough Hall, 171 Bay Avenue, Highlands, NJ 07732 | Nov. 28, 2016 | 345297
New York: Dutchess (FEMA Docket No.: B-1619) | Town of Wappinger (16-02-0187P) | The Honorable Lori A. Jiava, Supervisor, Town of Wappinger, Town Hall, 20 Middlebush Road, Wappinger Falls, NY 12590 | Town Hall, 20 Middlebush Road, Wappinger Falls, NY 12590 | Sep. 2, 2016 | 361387
Oregon: Jackson (FEMA Docket No.: B-1654) | Unincorporated Areas of Jackson County (16-10-0826P) | The Honorable Rick Dyer, Commissioner, Jackson County, 10 South Oakdale Avenue Room 214, Medford, OR 97501 | Jackson County Roads Parks and Planning Services, 10 South Oakdale Avenue, Medford, OR 97501 | Dec. 13, 2016 | 415589
Virginia: Independent City (FEMA Docket No.: B-1646) | City of Newport News (16-03-0266P) | The Honorable McKinley L. Price, Mayor, City of Newport News, City Council, 2400 Washington Avenue, Newport News, VA 23607 | Department of Engineering, 2400 Washington Avenue, Newport News, VA 23607 | Nov. 4, 2016 | 510103
Wisconsin:
Dane (FEMA Docket No.: B-1646) | City of Madison (16-05-3204P) | The Honorable Paul R. Soglin, Mayor, City of Madison, 210 Martin Luther King Jr. Boulevard, Room 403, Madison, WI 53703 | City Hall, 210 Martin Luther King Jr. Boulevard, Room 403, Madison, WI 53703 | Oct. 27, 2016 | 550083
Dane (FEMA Docket No.: B-1654) | City of Middleton (16-05-2081P) | The Honorable Kurt Sonnentag, Mayor, City of Middleton, 7426 Hubbard Avenue, Middleton, WI 53562 | City Hall, 7426 Hubbard Avenue, Middleton, WI 53562 | Oct. 28, 2016 | 550087
Dane (FEMA Docket No.: B-1646) | Unincorporated Areas of Dane County (16-05-3204P) | Mr. Joe Parisi, County Executive, Dane County, City County Building, 210 Martin Luther King Jr. Boulevard, Room 421, Madison, WI 53703 | City County Building, 210 Martin Luther King Jr. Boulevard, Room 116, Madison, WI 53703 | Oct. 27, 2016 | 550077
Eau Claire (FEMA Docket No.: B-1646) | Unincorporated Areas of Eau Claire County (16-05-4739X) | Mr. Gregg Moore, County Board Chair, Eau Claire County, 721 Oxford Avenue, Eau Claire, WI 54703 | Eau Claire County Courthouse, 721 Oxford Avenue, Eau Claire, WI 54703 | Oct. 26, 2016 | 555552
Kenosha (FEMA Docket No.: B-1646) | Unincorporated Areas of Kenosha County (16-05-2093P) | Mr. Edward Kubicki, County Board Supervisor, Kenosha County, Administrative Building, 1010 56th Street, Kenosha, WI 53140 | Kenosha County Department of Planning and Development, 19600 75th Street, Kenosha, WI 53140 | Oct. 25, 2016 | 550523

[FR Doc. 2017-04884 Filed 3-15-17; 8:45 am]

BILLING CODE 9110-12-P